DEPARTMENT OF THE INTERIOR

Fish and Wildlife Service

[FWS-R9-EA-2009-N126, 97600-9792-0000-5d]

Sport Fishing and Boating Partnership Council

AGENCY: Fish and Wildlife Service, Interior.

ACTION: Notice of meeting.

SUMMARY: We, Fish and Wildlife Service, announce a public meeting of the Sport Fishing and Boating Partnership Council (Council).

DATES: The meeting will be held on Thursday, August 6, 2009, from 12 p.m. to 5 p.m. and Friday, August 7, 2009 from 8:30 a.m. to 3 p.m. (Eastern time). Members of the public wishing to participate in the meeting must notify Douglas Hobbs by close of business on Monday, July 27, 2009, per instructions under Supplementary Information.

ADDRESSES: The meeting will be held at the Holiday Inn by the Bay, 88 Spring Street, Portland, Maine; telephone (207) 775-2311.

FOR FURTHER INFORMATION CONTACT: Douglas Hobbs, Council Coordinator, 4401 North Fairfax Drive, Mailstop 3103-AEA, Arlington, VA 22203; telephone (703) 358-2336; fax (703) 358-2548; or via e-mail at doug_hobbs@fws.gov.

SUPPLEMENTARY INFORMATION: In accordance with the requirements of the Federal Advisory Committee Act, 5 U.S.C. App., we announce that the Sport Fishing and Boating Partnership Council will hold a meeting on Thursday, August 6, 2009, from 12 p.m. to 5 p.m. and Friday, August 7, 2009 from 8:30 a.m. to 3 p.m. (Eastern time).

The Council was formed in January 1993 to advise the Secretary of the Interior, through the Director, U.S. Fish and Wildlife Service, on nationally significant recreational fishing, boating, and aquatic resource conservation issues. The Council represents the interests of the public and private sectors of the sport fishing, boating, and conservation communities and is organized to enhance partnerships among industry, constituency groups, and government. The 18-member Council, appointed by the Secretary of the Interior, includes the Director of the Service and the president of the Association of Fish and Wildlife Agencies, who both serve in ex officio capacities. Other Council members are Directors from State agencies responsible for managing recreational fish and wildlife resources and individuals who represent the interests of saltwater and freshwater recreational fishing, recreational boating, the recreational fishing and boating industries, recreational fisheries resource conservation, Native American tribes, aquatic resource outreach and education, and tourism. Background information on the Council is available at http://www.fws.gov/sfbpc.

The Council will convene to consider: (1) The Council's continuing role in providing input to the Fish and Wildlife Service on the Service's strategic plan for its Fisheries Program; (2) the Council's work to assess the Service's Fisheries Program; (3) the Council's work in addressing the issue of boating and fishing access; (4) the Council's work to assess the Sport Fish Restoration Boating Access Program; (5) information pertaining to Sport Fish Restoration and Boating Trust Fund; (6) the Council's role in providing the Secretary with information about the implementation of the Strategic Plan for the National Outreach and Communications Program, authorized by the 1998 Sportfishing and Boating Safety Act, that is now being implemented by the Recreational Boating and Fishing Foundation, a private, nonprofit organization; (7) the council's work to assess the activities of the Recreational Boating and Fishing Foundation; and (8) other Council business. The final agenda will be posted on the Internet at http://www.fws.gov/sfbpc.

Procedures for Public Input: Interested members of the public may submit relevant written or oral information for the Council to consider during the public meeting. Questions from the public will not be considered during this period. Speakers who wish to expand upon their oral statements or those who had wished to speak but could not be accommodated on the agenda are invited to submit written statements to the Council.

Individuals or groups requesting an oral presentation at the public Council meeting will be limited to 2 minutes per speaker, with no more than a total of 30 minutes for all speakers. Interested parties should contact Douglas Hobbs, Council Coordinator, in writing (preferably via e-mail), by Monday, July 20, 2009, (See FOR FURTHER INFORMATION CONTACT) to be placed on the public speaker list for this meeting. Written statements must be received by Thursday, July 30, 2009, so that the information may be made available to the Council for their consideration prior to this meeting. Written statements must be supplied to the Council Coordinator in both of the following formats: One hard copy with original signature, and one electronic copy via e-mail (acceptable file format: Adobe Acrobat PDF, WordPerfect, MS Word, MS PowerPoint, or Rich Text files in IBM-PC/Windows 98/2000/XP format).

In order to attend this meeting, you must register by close of business Monday, July 27, 2009. Please submit your name, time of arrival, e-mail address and phone number to Douglas Hobbs. Mr. Hobbs' e-mail address is doug_hobbs@fws.gov, and his phone number is (703) 358-2336.

Summary minutes of the conference will be maintained by the Council Coordinator at 4401 N. Fairfax Drive, MS-3103-AEA, Arlington, VA 22203, and will be available for public inspection during regular business hours within 30 days following the meeting. Personal copies may be purchased for the cost of duplication.

Dated: June 18, 2009.
Marvin Moriarty,
Acting Director.

[FR Doc. E9-16200 Filed 7-8-09; 8:45 am]

BILLING CODE 4310-55-P